DEPARTMENT OF ENERGY

Federal Energy Regulatory Commission

Combined Notice of Filings

Take notice that the Commission has received the following Natural Gas Pipeline Rate and Refund Report filings:

Filings Instituting Proceedings

Docket Numbers: RP18-1066-000.

Applicants: Columbia Gas Transmission, LLC.

Description: § 4(d) Rate Filing: TCO MXP August Agreement Filing to be effective 9/18/2018.

Filed Date: 8/20/18.

Accession Number: 20180820-5000.

Comments Due: 5 p.m. ET 9/4/18.

Docket Numbers: RP18-1067-000.

Applicants: WBI Energy Transmission, Inc.

Description: § 4(d) Rate Filing: 2018 Negotiated Rate Filing SA IT-836 to be effective 9/1/2018.

Filed Date: 8/21/18.

Accession Number: 20180821-5030.

Comments Due: 5 p.m. ET 9/4/18.

Docket Numbers: RP18-1068-000.

Applicants: Colorado Interstate Gas Company, L.L.C.

Description: 2018 Penalties Assessed Compliance Filing.

Filed Date: 8/20/18.

Accession Number: 20180820-5186.

Comments Due: 5 p.m. ET 9/4/18.

Docket Numbers: RP18-1069-000.

Applicants: Texas Eastern Transmission, LP.

Description: § 4(d) Rate Filing: Negotiated Rates—PAL Agreements to be effective 8/1/2018.

Filed Date: 8/21/18.

Accession Number: 20180821-5089.

Comments Due: 5 p.m. ET 9/4/18.

Docket Numbers: RP18-1070-000.

Applicants: ANR Pipeline Company.

Description: Compliance filing Request for Waiver Grand Chenier.

Filed Date: 8/21/18.

Accession Number: 20180821-5111.

Comments Due: 5 p.m. ET 8/28/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 22, 2018.
Nathaniel J. Davis, Sr.,
Deputy Secretary.

[FR Doc. 2018-18603 Filed 8-27-18; 8:45 am]

BILLING CODE 6717-01-P